DEPARTMENT OF DEFENSE

Department of the Air Force

Record of Decision for the Final Environmental Impact Statement for the Housing Program at Wright-Patterson Air Force Base, Ohio

ACTION: Notice of availability.

SUMMARY: On July 16, 2020, the United States Air Force (USAF) signed the Record of Decision for the Final Environmental Impact Statement for the Housing Program at Wright-Patterson Air Force Base, Ohio.

ADDRESSES: Mr. Mike Ackerman, AFCEC/CZN, Bldg 1, 2261 Hughes Ave. (STE 155), JBSA-Lackland, TX 78236-9853, (210) 925-2741; michael.ackerman.2@us.af.mil.

SUPPLEMENTARY INFORMATION: The USAF has decided to implement the first phase of Alternative 2, specifically renovation of 30 historic housing units and the demolition of government-owned non-historic housing located on Yount Drive. This decision will support the near-term housing needs of WPAFB's key and essential leaders.

The Air Force's decision, documented in the Record of Decision, was based on analysis provided in the Final Environmental Impact Statement, and includes inputs from the public and regulatory agencies. The Final Environmental Impact Statement was made available to the public on May 29, 2020 through a Notice of Availability in the Federal Register (Volume 85, Number 104, Page 32390) with a review period that ended on June 29, 2020.

Authority: This Notice of Availability is published pursuant to the regulations (40 CFR part 1506.6) implementing the provisions of the National Environmental Policy Act (42 U.S.C. 4321, et seq.) and the Air Force's Environmental Impact Analysis Process (32 CFR parts 989.21(b) and 989.24(b)(7)).

Adriane Paris,
Acting Air Force Federal Register Liaison Officer.

[FR Doc. 2020-16729 Filed 7-31-20; 8:45 am]

BILLING CODE 5001-10-P